DEPARTMENT OF HOUSING AND URBAN DEVELOPMENT

[Docket No. FR 5002-N-01]

Notice of Funding Availability for Fiscal Year (FY) 2005 Mainstream Housing Opportunities for Persons With Disabilities Program (Mainstream Program)

AGENCY: Office of Public and Indian Housing, HUD.

ACTION: Notice of Funding Availability (NOFA).

Overview Information

A. Federal Agency Name: Department of Housing and Urban Development, Office of Public and Indian Housing, Office of Public Housing and Voucher Programs.

B. Funding Opportunity Title: Mainstream Housing Opportunities for Persons With Disabilities Program (Mainstream Program).

C. Announcement Type: Initial Announcement.

D. Funding Opportunity Number: The Federal Register number for this NOFA is FR-5002-N-01. The Office of Management and Budget (OMB) paperwork approval number is 2577-0169.

E. Catalog of Federal Domestic Assistance (CFDA) Number: 14.871, Section 8 Housing Choice Vouchers.

F. Application Deadline: The application submission date is January 3, 2006. Applications must be submitted through www.grants.gov and must be received by grants.gov no later than 11:59:59 p.m. Eastern time on the application submission date. Applicants receiving a waiver of the electronic submission requirement must send their application via the United States Postal Service (USPS) no later than 11:59:59 p.m. Eastern time on the application submission date. Please see the General Section of the SuperNOFA (70 FR 13575) published March 21, 2005, for further information about application submission, delivery, and timely receipt requirements.

G. Optional, Additional Overview Content Information: The purpose of the Mainstream Program is to provide vouchers under the Housing Choice Voucher Program to enable persons with disabilities (elderly and non-elderly) to access affordable private housing. Public housing agencies (PHAs) and nonprofit organizations that provide services to the disabled are eligible to apply. Those PHAs and nonprofit organizations interested in applying for the approximately $10.2 million in five-year budget authority (anticipated to fund approximately 250 vouchers) under this funding announcement should carefully review the General Section of the SuperNOFA published March 21, 2005 (70 FR 13575); the additional guidance and other helpful information located at www.hud.gov (click on “Grants” and then click on “Funds Available”); and the detailed information contained in this Mainstream Program funding announcement. The available funding is derived from Fiscal Year (FY) 2005 Section 811 funding, and previously unobligated Mainstream funding from FY 2000 and FY 2003.

Full Text of Announcement

I. Funding Opportunity Description

A. Authority and Purpose

Authority for this program is found in the Cranston-Gonzalez National Affordable Housing Act, 42 U.S.C. 8013 (Pub. L. 101-625), the Consolidated Appropriations Act, FY 2005 (Pub. L. 108-447, approved December 8, 2004), and in chapters of the Emergency Supplemental Appropriations Act for Defense, the Global War on Terror and Tsunami Relief, 2005 (Pub. L. 109-13, approved May 11, 2005). The Secretary has established a Mainstream Housing Opportunities for Persons With Disabilities Program (Mainstream Program) to provide vouchers to enable persons with disabilities to access affordable private housing of their choice. The Mainstream Program will assist PHAs and nonprofit organizations in providing housing choice vouchers to a segment of the population recognized by HUD's housing research as having one of the worst housing needs of any group in the United States, i.e., very low-income households with adults with disabilities. In addition, the Mainstream Program will assist persons with disabilities who often face difficulties in locating suitable and accessible housing on the private market. The vouchers that HUD will provide under this announcement must be made available to eligible disabled families regardless of their type of disability. (See the definition of disabled family in section I. B. 1. of this announcement.) The Mainstream Program vouchers must not be issued by the administering agency on the basis of any preference system favoring any particular type of disability over another, nor shall the vouchers be issued solely on the basis of an administering agency's waiting list which, in turn, is based on that agency having heretofore served only certain types of disabled persons. The Housing Choice Voucher Program regulations provide at 24 CFR 982.207(b)(3) that a PHA may give preference for admission of families that include a person with disabilities; however, the PHA may not give preference for admission of persons with a specific disability. This regulatory requirement is also applicable to nonprofit organizations that receive funding under this announcement, as such organizations must comply with the regulatory requirements applicable to the Housing Choice Voucher Program. Because Mainstream vouchers are targeted for use by disabled persons, each successful applicant will need to revise the administrative plan for its voucher program to clearly indicate that Mainstream vouchers will be issued only to disabled persons. Preferences within the disability category; e.g., disabled veterans, etc., may be used as long as the result is not to give a preference to the admission of persons with any specific type of disability.

B. Definitions

The following definitions apply to the approximately $10.2 million in five-year budget authority available under this funding announcement.

1. Disabled Family. Disabled family means a family whose head, spouse, or sole member is a person with disabilities. It may include two or more persons with disabilities living together, or one or more persons with disabilities living with one or more live-in aides.

2. Person With Disabilities. a. Means a person who:

(1) Has a disability as defined in 42 U.S.C. 423;

(2) Is determined, pursuant to HUD regulations, to have a physical, mental, or emotional impairment that:

(a) Is expected to be of long-continued and indefinite duration;

(b) Substantially impedes his or her ability to live independently; and

(c) Is of such a nature that the ability to live independently could be improved by more suitable housing conditions; or

(3) Has a developmental disability as defined in 42 U.S.C. 6001;

b. Does not exclude persons who have the disease of acquired immunodeficiency syndrome or any conditions arising from the etiologic agent for acquired immunodeficiency syndrome;

c. For purposes of qualifying for low-income housing, does not include a person whose disability is based solely on any drug or alcohol dependence.

Note: HUD is exercising its waiver authority under the “Housing for Persons With Disabilities” section of the Consolidated Appropriations Act, 2005, to use the definition of “person with disabilities” found at section 3 (b)(3)(E) of the United States Housing Act of 1937 (42 U.S.C. 1437 et seq.) (“the Act”), as implemented in the HUD regulations for the Housing Choice Voucher Program at 24 CFR 5.403, in lieu of the definition of “person with disabilities” found at 42 U.S.C. 8013 (k)(2).

3. Housing Choice Voucher Search Assistance. Assistance to increase access by program participants to housing units in a variety of neighborhoods (including areas with low poverty concentrations) and to locate and obtain units suited to their needs.

II. Award Information

A. Available Funds

Approximately $10.2 million in five-year funding is available for approximately 250 vouchers for supportive housing for persons with disabilities. This allocation is consistent with the Consolidated Appropriations Act, FY 2005 (Pub. L. 108-447, approved December 8, 2004), and the Emergency Supplemental Appropriations Act for Defense, the Global War on Terror and Tsunami Relief, 2005 (Pub. L. 109-13, approved May 11, 2005). Congressional rescission of a portion of HUD's appropriated funding resulted in the $10 million in appropriations being reduced to $9,920,000. This amount was supplemented by prior year unobligated Mainstream funding from FY 2000 and FY 2003 (also derived from section 811 funding) totaling approximately $318,000, for a grand total for Mainstream funding of approximately $10.2 million. All future references in this funding announcement to five-year budget authority are based upon these funding sources. All of the approximately $10.2 million in Mainstream funding is for use in housing persons with disabilities.

B. Housing Choice Voucher Funding

1. Determination of Funding Amount for the Applicant's Requested Number of Vouchers. HUD's Housing Voucher Financial Management Division will determine the amount of funding that an applicant will be awarded under this announcement based upon actual annual per unit costs.

2. Determination Process. a. HUD will extract from the Voucher Management System (VMS) the actual housing assistance payments (HAP) costs for five-year Mainstream units, divided by the total units leased, both as reported by the PHA in VMS and verifiable, for the most recently reported quarter. HUD will multiply the monthly per unit cost by 12 to determine the annual per unit cost and may adjust that total by the applicable Annual Adjustment Factor, to arrive at a funding amount for HAP costs. The HAP dollar amount, approved by HUD for an awardee for five-year Mainstream vouchers, will not be increased by HUD during the five-year term.

b. If a PHA does not currently administer a five-year Mainstream Program, the per unit funding amount will be that amount used to calculate the PHA's Calendar Year 2005 renewal funding for the regular voucher program.

c. Administrative fees will be calculated on the basis of the per unit month rate determined for the PHA from its Calendar Year 2005 renewal fee allocation.

C. Unfunded Approvable Applications

PHAs or nonprofit organizations with approvable applications that are not funded in whole or in part, due to insufficient funds available under this funding announcement, shall be funded first in FY 2006, provided HUD receives additional appropriations for the Mainstream Program for FY 2006.

III. Eligibility Information

A. Eligible Applicants

PHAs and nonprofit organizations that provide services to the disabled (as defined in section I. B. 1. of this announcement) are eligible applicants for the five-year budget authority funding available under this funding announcement. PHAs with less than 300 vouchers under an annual contributions contract (ACC), nonprofit organizations not previously funded under the Mainstream Program, as well as PHAs or nonprofit organizations that fall into any of the categories in section III. C. 1. of this announcement, are ineligible to have an application funded under this announcement. Indian Housing Authorities (IHAs), Indian tribes, and their tribally designated housing entities are not eligible to apply for new increments of housing choice voucher funding because the Native American Housing Assistance and Self-Determination Act of 1996 (25 U.S.C. 4101 et seq.), does not allow HUD to enter into new housing choice voucher ACCs with IHAs after September 30, 1997.

B. Cost Sharing or Matching

None required.

C. Other

1. Program Related Threshold Requirements. An applicant must be eligible under the following threshold requirements at the time of the application due date, as well as at such subsequent time of HUD's selection of awardees. The Grants Management Center (GMC) will use information available within HUD's information systems, as well as coordinate with HUD's local HUD field offices, in assessing whether applicants fall into any of the threshold categories. Applications from PHAs or nonprofit organizations that fall into any of the following threshold categories will not be processed:

a. PHAs or nonprofit organizations that do not meet the fair housing and civil rights compliance threshold requirements of Sections III. C. 2. c. and III. C. 4. a. and b. of the General Section of the SuperNOFA (70 FR 13575) published March 21, 2005.

b. The applicant is designated as troubled by HUD under the Section 8 Management Assessment Program (SEMAP), or has major program management findings in an Inspector General audit for its voucher program that are unresolved, or has other significant program compliance problems that are not resolved. Major program management findings, or significant program compliance problems, are those that would cast doubt on the capacity of the applicant to effectively administer any new housing choice voucher funding in accordance with applicable HUD regulatory and statutory requirements. The only exception to this category is if the applicant has been identified under the policy established in section III. C. 2. c. of this announcement and the applicant makes application with a designated contract administrator.

c. The PHA or nonprofit organization has failed to expend 97 percent of its allocated budget authority (ABA) for its voucher program. The percent of allocated budget authority expended (PABAE) for a PHA's or nonprofit organization's voucher program will be calculated by HUD Headquarters' Housing Voucher Financial Management Division based upon the expenditure information submitted electronically to HUD's voucher management system (VMS) on a quarterly basis for the most recent 12-month period (prior to the Mainstream application due date). The PABAE will be determined by HUD dividing the amount of housing assistance payments (HAP) by the ABA. If data in the VMS is not available or cannot be relied upon, HUD will use other sources of available information, such as the HUD Central Accounting Processing System (HUDCAPS), up to December 31, 2004, or financial statement information submitted to the Real Estate Assessment Center through the Financial Assessment Sub-System. (Note: If the PABAE is 96.5 percent but less than 97 percent, the PABAE shall be rounded up to 97 percent.) See section IV. B. 1. g. of this funding announcement, which addresses the certification to be submitted by Moving to Work (MTW) agencies in connection with the 97 percent expenditure requirement referenced above.

d. The PHA or nonprofit organization is involved in litigation and HUD determines that the litigation may seriously impede the ability of the applicant to administer the vouchers.

e. An application that does not comply with the requirements of 24 CFR 982.103 and this program section after the expiration of the 7-calendar day technical deficiency correction period.

f. The application was submitted after the application due date.

g. The application was not submitted to the official place of receipt as indicated in section F. under Overview Information at the beginning of this funding announcement, or as indicated in section IV. F. of this funding announcement, as appropriate.

h. The applicant has been debarred or otherwise disqualified from providing assistance under the program.

i. The PHA did not have its PHA plans approved by HUD for the FY 2004 plan cycle on the application due date for this funding announcement. (This category of ineligibility does not apply to nonprofit organizations whose Housing Choice Voucher Program is based solely upon previously approved housing choice vouchers under the Mainstream Program.)

j. The applicant does not have a financial management system that meets federal standards. See Section III. C. 2. f. of the General Section of the SuperNOFA (70 FR 13575) published March 21, 2005, regarding those applicants that may be subject to HUD's arranging for a pre-award survey of an applicant's financial management system.

k. The PHA does not have a HUD-approved designated housing plan as of the application due date under this funding announcement (this does not apply to nonprofit applicants).

l. The applicant is not in compliance with the Uniform Financial Reporting Standards (UFRS) at the time of the application due date.

m. The applicant submits an electronic application with a virus. (The applicant may resubmit a virus-free electronic application, but it must be resubmitted at least 24 hours prior to the due date.)

n. The applicant is not registered at www.grants.gov as the authorized organization representative.

o. The applicant submits an application using a Dun and Bradstreet Number System (DUNS) number under which it is not registered to submit an electronic application to www.grants.gov.

2. PHA Program Requirements.

a. A PHA may submit only one application under this announcement. This one-application-per-PHA limit applies regardless of whether or not the PHA is a state or regional PHA, except in those instances where such a PHA has more than one PHA code number due to its operating under the jurisdiction of more than one HUD field office. In such an instance, a separate application under each code shall be considered for funding, with the cumulative total of vouchers applied for under the applications not to exceed the maximum of 20 vouchers the PHA is eligible to apply for under section IV. E. of this announcement, i.e., no more than the number of vouchers the same PHA would be eligible to apply for if it only had one PHA code number.

b. PHAs are encouraged to involve nonprofit organizations that provide services to disabled families, as defined in section III. C. 3. of this announcement, in the administration of the Mainstream Program's vouchers. In the past, such organizations have frequently demonstrated a capacity to assist disabled families and have demonstrated an in-depth knowledge of the disability community.

(1) A nonprofit organization could function as either a contract administrator for the PHA's Mainstream vouchers, or as a subcontractor responsible for providing case management services or assisting disabled families to locate suitable housing, gaining access to supportive services, or identifying private funding sources to cover the costs of unit modifications needed as a reasonable accommodation.

(2) Such contractual arrangements must, however, ensure equal opportunity among the wide variety of disabled populations in the PHA's service area.

c. In some cases, an applicant currently administering the Housing Choice Voucher Program has, at the time of publication of the SuperNOFA, been designated by HUD as troubled under the SEMAP, has major program management findings from Inspector General audits that are unresolved, or has other significant program compliance problems. HUD will reject an application from such an applicant as a contract administrator if, on the application due date, the troubled designation under SEMAP has not been removed by HUD, and the findings or other significant program compliance problems are not resolved. If the applicant wants to apply for funding under this announcement, it must submit an application that designates another contractor that is acceptable to HUD. The application must include an agreement by the other contractor to administer the new funding increment on behalf of the applicant, and (in the instance of an applicant with unresolved major program management findings or other significant program compliance problems) a statement that outlines the steps the applicant is taking to resolve the program findings or compliance problems.

Immediately after the publication of this funding announcement, the Office of Public Housing in the local HUD field office will notify, in writing, those PHAs and nonprofit organizations that have been designated by HUD as troubled under SEMAP, and those PHAs and nonprofit organizations with unresolved major program management findings or other significant program compliance problems that are not eligible to apply without such an agreement. Concurrently, the local HUD field office will provide a copy of each such written notification to the Director of the Grants Management Center (GMC). The applicant may appeal the decision, in writing, if HUD has mistakenly classified the applicant as having unresolved major program findings or other significant program compliance problems. The applicant may not appeal its designation as troubled under SEMAP. Any appeal with respect to unresolved major program management findings or other significant program compliance problems must be accompanied by conclusive evidence of HUD's error (i.e., documentation showing that the finding has been cleared or the program compliance problem has been resolved) and must be received prior to the application deadline. The appeal should be submitted to the local HUD field office where a final determination shall be made. Concurrently, the local HUD field office shall provide the GMC with a copy of the applicant's written appeal and the field office's written response to the appeal. Copies of all letters of ineligibility and matters that relate to PHA appeals referenced in this paragraph must be submitted to the GMC by the field office so as to be received by the GMC no later than 10 days after the application deadline date. Major program management findings, or significant program compliance problems, are those that would cast doubt on the capacity of the applicant to effectively administer any new housing choice voucher funding in accordance with applicable HUD regulatory and statutory requirements.

(Note: If any additional PHAs or nonprofit organizations fall into the above category prior to HUD's announcement of awards under this NOFA, but subsequent to the local HUD field office's notification of the GMC addressed above, the field office shall immediately notify the GMC of the applicant's name and the category into which the applicant falls, i.e., designated as troubled under SEMAP, major unresolved Office of Inspector General (OIG) management findings, or other significant program compliance problems. As indicated in section III. C. 1. of this NOFA, an applicant must be eligible for funding at the time of the application due date, as well as at such subsequent time of HUD's selection of awardees. No PHA appeals, based upon field office letters of ineligibility issued after the application deadline date, shall be considered for purposes of eligibility for funding under this funding announcement.)

?USGPO Galley Info Start:! NOTICES N2 PC\J\208001-A02NO3-047-*****-*****- -Name: b22 -Payroll No: -Folios: 1248-1250 -Date: 10/31/2005?][FEDREG][VOL]*[/VOL][NO]*[/NO][DATE]*[/DATE][NOTICES][NOTICE][PREAMB][AGENCY]*[/AGENCY][SUBJECT]*[/SUBJECT]

3. Nonprofit Organization Program Requirements. A nonprofit organization may submit only one application under this announcement. For purposes of the Mainstream Program, a nonprofit organization shall be defined as an organization, no part of the net earnings of which inures to the benefit of any member, founder, contributor, or individual, that provides services to persons with disabilities and has received a federal tax-exempt designation, under section 501(c) (3) of the Internal Revenue Code, from the U.S. Internal Revenue Service.

a. The nonprofit entity must:

(1) Have a voluntary board;

(2) Be authorized by its charter or state law to enter into a contract with the Federal Government to provide housing assistance to persons with disabilities;

(3) Have a functioning accounting system that is operated in accordance with generally accepted accounting principles, or designate an entity that will maintain a functioning accounting system for the organization in accordance with generally accepted accounting principles;

(4) Practice nondiscrimination in the provision of assistance; and

(5) Provide services to the disabled as part of its ongoing activities and responsibilities.

b. Nonprofit organizations are encouraged to seek out PHAs in their geographic area to develop cooperative contractual relationships under the Mainstream Program and to enhance services to disabled families. In addition to contacting local PHAs, nonprofit organizations may also wish to contact regional (multi-county) or statewide PHAs.

4. Eligible Participants. Only a disabled family that is income-eligible under 24 CFR 982.201(b)(1), as well as otherwise eligible under the regulations at 24 CFR 982.201, may receive a voucher awarded under the Mainstream Program. Applicants with disabilities must be selected from the PHA's or nonprofit organization's housing choice voucher waiting list. Additional information on those families and individuals eligible to receive a voucher is located at the following HUD Web site: http://www.hud.gov/offices/pih/programs/hcv.

IV. Application and Submission Information

A. Website Addresses To Request Application Package

This section describes how you may obtain application forms, additional information about the Mainstream Program NOFA, and technical assistance. Copies of the published Mainstream NOFA and related application forms for this NOFA may be downloaded from the grants.gov Web site at www.grants.gov/Apply. (Be sure to download both the instructions package and the application package. Information from both packages will be necessary to have a successful submission.) You may choose from links provided under the topic “Search Grant Opportunities,” which allows you to do a basic search or to browse by category or agency. The NOFA may also be found by using the search function at www.grants.gov. If you have difficulty accessing the information, you may receive customer support from Grants.gov by calling its help line at (800) 518-GRANTS or sending an e-mail to support@grants.gov. The Grants.gov help desk is open from 7 a.m. to 9 p.m. Eastern time, Monday through Friday, except federal holidays. The operators will assist you in accessing the information. If you do not have Internet access and you need to obtain a copy of this NOFA, you may contact HUD's NOFA Information Center toll-free at (800) HUD-2209 and immediately submit a request for a waiver of the electronic requirement. A copy of this funding announcement for the Mainstream Program, the forms to be submitted with the application, and reference materials for use in preparing an application may be downloaded from the following Web site: www.grants.gov/Apply, by clicking on Apply Step 1.

1. Application Kit. There is no application kit for this program. This announcement contains all the information necessary for the submission of your application for voucher funding for the Mainstream Program. The materials needed to apply are found in the instruction download and application download found at www.grants.gov/Apply. HUD has made an effort to improve the readability of this NOFA and publish all required forms for application submission in the Federal Register. Please pay attention to the registration and submission requirements, including the format for submission, for the Mainstream NOFA to ensure that you have submitted all required elements of your application. The published Federal Register document is the official document that HUD uses to solicit applications. Therefore, if there is a discrepancy between any materials published by HUD in its Federal Register publications and other information provided in paper copy, electronic copy, or at www.grants.gov, the Federal Register publication prevails. Please be sure to review your application submission against the requirements in the Federal Register for this program NOFA.

2. Further Information. A guidebook to HUD programs entitled, “Connecting with Communities: A User's Guide to HUD Programs and the FY 2005 NOFA Process,” is available from the HUD NOFA Information Center and the HUD Web site at: www.hud.gov/offices/adm/grants/fundsavail.cfm. The guidebook provides a brief description of all HUD programs, identifies eligible applicants for the programs, and provides examples of how programs can work in combination to serve local community needs. The telephone numbers for the NOFA Information Center are (800) HUD-8929, or for the hearing impaired, (800) HUD-2209 (TTY) (these are toll-free numbers). The NOFA Information Center is open between the hours of 10:00 a.m. and 6:30 p.m. Eastern time, Monday through Friday, except federal holidays.

B. Content and Form of Application Submission

You must meet all the registration, application, and submission requirements described in Section IV. B. of the General Section of the SuperNOFA (70 FR 13581).

1. Content of Application. Applicants are requested to read this section very carefully, as it addresses the specific information that must be in the applications submitted to HUD under this NOFA. Applications failing to provide this information will be determined either ineligible for processing, or in the instance of an application having a curable (correctable) technical deficiency (see the General Section of the SuperNOFA (70 FR 13575) published March 21, 2005), the applicant will be requested to submit additional information. Those application submission items identified below in this section IV. B. 1. as “not curable” shall mean that any item; e.g., Mainstream Program Operating Plan, for which the applicant does not provide all the requested information shall result in the application being determined ineligible for processing. The turnaround times established by HUD in the instance of curable technical deficiencies are relatively brief, so the initial submission of a carefully prepared and complete application is extremely important. Applicants should also carefully review sections III. C. 1. (b) and (c) of this funding announcement to determine if their SEMAP designation, OIG status, existence of significant program compliance problems, or percentage expended of allocated budget authority will require the submission of additional information with their application.

a. Form SF-424, Application for Federal Assistance. All applicants must complete and submit the SF-424, Application for Federal Assistance. The SF-424 requires each applicant to enter basic information; e.g., applicant's name, address, Dun and Bradstreet Universal Numbering System (DUNS) number, CFDA number for the type of funding being requested, etc. In the box titled “Federal Identifier” (on the top right hand side of the form), the applicant should enter the housing authority code number (for example, CT00). In part a. (Federal), of section 15 (Estimated Funding), the applicant should enter a zero dollar amount, as HUD will determine (as per section II. B. of this funding announcement) the amount of funding needed to fund the number of vouchers an applicant may be awarded. (Electronic Application Submission Tip: When entering the zero for the dollar amount, do not use any decimal points.) The SF-424 is located in the General Section of the SuperNOFA and is also available at the following HUD Web site: http://www.hud.gov/Apply. Applicants are placed on notice that by electronically signing the SF-424, the applicant is certifying to the accuracy of (1) All data/information on the Form SF-424, (2) all information described in Section IV. B. 2. (“Certifications and Assurances”) in the General Section (70 FR 13575), published March 21, 2005, and (3) all data and information provided on all other forms and components (including certifications related to rating criteria) in its application. If you are granted a waiver to the electronic submission requirements, the Form SF-424 must be submitted and signed/dated by the applicant. An electronic or handwritten signature on the form certifies the accuracy of the application.

b. Form HUD-52515. All applicants must complete and submit Form HUD-52515, Funding Application, for the Housing Choice Voucher Program. Section C of the form should be left blank. The standard Assurances and Certifications required to be submitted by each applicant are on the Form HUD-52515, which includes the Equal Opportunity Certification, and the Certification Regarding Lobbying. A copy of the Form HUD-52515, which is not included among the forms in the General Section of the SuperNOFA, is attached to this funding announcement.

c. Letter of Intent and Narrative. In the letter of intent and narrative, the applicant must indicate the number of vouchers being requested, whether it will accept a reduction in the number of vouchers, and the minimum number of vouchers the applicant will accept, since the funding is limited and HUD may only have enough funds to approve an amount smaller than the number of vouchers requested. The maximum number of vouchers that an applicant may apply for under this announcement is limited to 20, and the minimum number of vouchers an applicant may apply for is 10.

The letter of intent and narrative should also include information addressing how the applicant meets the selection criteria in section V.A. of this NOFA. Failure of the applicant to provide information in connection with selection criterion 1 shall result in the GMC scoring the applicant solely on the basis of information HUD already has on-hand. An applicant (with the exception of a Block Grant MTW PHA) is not required to submit any information with its application relative to selection criterion 2, as HUD will determine the applicant's percentage of allocated budget authority that has been expended for its voucher program based upon information already available within HUD's data systems. Failure of the applicant to provide the information called for under selection criterion 3, selection criterion 4, or selection criterion 5 shall be considered not curable, but shall not make the application ineligible for processing. Failure to provide the information shall simply mean that the applicant is ineligible for the points under the categories for which it failed to provide the information requested in this funding announcement. An applicant must submit the monitoring and evaluation plan required under selection criterion 6 if the applicant sought to be rated under selection criteria 3, 4, or 5. Failure to provide the monitoring and evaluation plan shall be considered not curable and shall make the application ineligible for processing.

d. Description of Need for Mainstream Program Vouchers. The PHA's and nonprofit organization's application must demonstrate a need for Mainstream Program vouchers by providing information documenting that the demand for housing for non-elderly and elderly persons with disabilities would equal or exceed the requested number of vouchers. The applicant must assess and document the housing need for elderly and non-elderly persons with disabilities using a range of sources including, but not limited to: Census data, information from the applicant's waiting list (both public housing and housing choice voucher), statistics on recent public housing admissions and housing choice voucher use, data from local advocacy groups and local public and private service agencies familiar with the housing needs of elderly and non-elderly persons with disabilities, and pertinent information from the Consolidated Plan [including the Analysis of Impediments to Fair Housing Choice (AI)] applicable to the applicant's jurisdiction. (See 24 CFR 91.205(d).) Failure of the applicant to provide the information required under this section (d) shall be determined not curable and the application deemed ineligible for processing.

e. Mainstream Program Operating Plan. The application must include a plan for operating a program to serve eligible disabled families. This Mainstream Program Operating Plan must, at a minimum, address the following:

(1) How the applicant will carry out its responsibilities under 24 CFR 8.28 to assist recipients in locating units with needed accessibility features;

(2) How the applicant will identify private or public funding sources to help participants cover the costs of modifications that need to be made to their units as reasonable accommodations to their disabilities; and

(3) How the applicant will use a nonprofit organization or PHA under a contract to administer the Mainstream Program vouchers or to otherwise provide services. (This area needs to be addressed only if the applicant intends to partner with a PHA or nonprofit organization as part of its efforts to serve eligible disabled families receiving Mainstream vouchers.)

Failure of the applicant to provide the information required under this section (e) shall be determined not curable and the application deemed ineligible for processing.

f. Statement Regarding the Steps the PHA and Nonprofit Organization Will Take to Affirmatively Further Fair Housing. The statement must include specific steps to address the categories outlined in Section III. C. 4. b. in the General Section of the HUD SuperNOFA.

g. Block Grant Moving to Work (MTW) PHA Certification. Block Grant MTW agencies must submit a certification with their application certifying to HUD that their voucher program funds have been used to meet the commitments of their MTW Agreement. Block Grant MTW PHAs that cannot rightfully submit such a certification shall submit a statement with their application explaining specifically why such a certification would not be accurate. (MTW PHAs in this latter category will have the number of Mainstream vouchers they are requesting evaluated by HUD on a case-by-case basis.) Failure of a Block Grant MTW PHA to provide the certification or statement required under this section g. shall be determined not curable and the application deemed ineligible for processing.

h. Form HUD-2993. Applicants that have received a waiver of the requirement to submit an electronic application are required to complete and submit Form HUD-2993, Acknowledgment of Application Receipt. In addition to the applicant's entering its name and address on the form, the full title of the program under which the applicant is seeking funding must also be entered. This form is located in the General Section of the SuperNOFA (70 FR 13575), published March 21, 2005, and is also available at the following Web site: www.grants.gov/Apply.

i. Identification of Primary Market Area. Each applicant must specify in the application its primary market area, i.e., the geographic area in which it is legally authorized to operate and where the vouchers will be issued. This information may be different from that entered by such an applicant on the Form HUD-52515, as the form calls for the applicant to identify its “legal area of operation,” which may be far more geographically expansive than the specific city, county, or area within a state where a PHA (particularly a regional or state PHA) or nonprofit organization intends to issue the vouchers. This information is critical because, as indicated in section V. A. 2. a. of this funding announcement, the geographic area in which the vouchers are intended to be issued and in which the applicant is legally authorized to operate a Housing Choice Voucher Program will be used by the applicant (and subsequently by the GMC during the review of applications) to determine the percentage of the nation's housing needs for disabled persons at or below the poverty level that are within the applicant's primary market area. For example, although an applicant may be legally authorized to operate throughout the entire county in which it is located, if the vouchers will be issued only in two cities within that county then the primary market area is those two cities and not the entire county. Conversely, if the applicant is planning to issue vouchers to all cities within a county, then the applicant must list the county only and not list the individual cities within that county (the county is the sum of all housing needs for cities within a county). If, in addition to the county, there are individual cities outside the county where the applicant also will be issuing vouchers, the PHA then also must list these cities. A state PHA or nonprofit organization legally authorized to operate throughout the entire state, but which intends to issue the Mainstream vouchers in only one county, must list solely that county as its primary market area. In addition, the primary market area shall not include a geographic area in which the applicant is issuing vouchers, outside its normal, legally authorized area of operation, based upon an agreement with another agency/PHA to issue vouchers in the other agency's/PHA's jurisdiction.

2. SF-424 Supplement, Survey on Ensuring Equal Opportunity for Applicants. Non-profit applicants are invited to respond to a survey questionnaire. This survey is designed to help HUD assess the interest in its funding opportunities to grassroots community-based organizations, including faith-based organizations. A copy of the survey form can be found in the General Section of the SuperNOFA (70 FR 13575), published March 21, 2005, and is also available as part of the application package at www.grants.gov/Apply.

C. Submission Date and Time

Applications submitted through www.grants.gov/Apply must be received by no later than 11:59:59 p.m. Eastern Time on January 3, 2006. Applicants receiving a waiver of the electronic submission requirement must submit their application to the United States Postal Service no later than 11:59:59 p.m. Eastern Time on January 3, 2006. This application submission date is firm. In the interest of fairness to all competing PHAs and nonprofit organizations, HUD will not consider any application that is submitted after the application submission date. Applicants should take this practice into account and submit their materials early to avoid any risk of loss of eligibility brought about by submission problems, unanticipated delays, weather conditions, or other delivery-related problems. See paragraph IV. titled “Application and Submission Information” in the General Section of the SuperNOFA (70 FR 13575), published March 21, 2005, regarding HUD's procedures pertinent to the submission of your application. Applicants applying electronically will receive a confirmation of receipt, and then 24 to 48 hours later will receive a validation receipt that indicates the application was accepted for processing by www.grants.gov for transfer to the offering agency (HUD). Applicants are advised to submit electronically at least 72 hours prior to the due date and time to allow themselves time to correct any deficiencies noted in the electronic application during the Grants.gov validation process. The validation process does not check for content. It only accepts applications where the applicant is registered and authorized to submit an application on behalf of the organization, if the electronic file is free from viruses, and if all mandatory forms and mandatory data elements in the forms have been completed. With early submission, if an application is rejected for using the wrong DUNS, the applicant will be able to correct the problem prior to the due date and time.

D. Intergovernmental Review

Applicants submitting an application under this funding announcement are not subject to intergovernmental review; i.e., Executive Order (EO) 12372, Intergovernmental Review of Federal Programs.

E. Funding Restrictions

There is a limit on the minimum and maximum number of vouchers that may be requested. An eligible applicant may apply for not less than 10 vouchers and no more than a maximum of 20 vouchers. No less than 10 vouchers and no more than 20 vouchers will be awarded to any applicant under the FY 2005 Mainstream Program. Any application incorrectly requesting more than 20 vouchers shall have its voucher request reduced by HUD to 20 vouchers. Likewise, because an applicant is not to request less than 10 vouchers under this NOFA, any applicant requesting less than 10 vouchers shall have that voucher request increased by HUD to 10 vouchers.

F. Waivers of the Electronic Submission Requirement; Other Submission Requirements

HUD regulations at 24 CFR 5.110 permit waivers of regulatory requirements to be granted for cause. If you are unable to submit your application electronically, you may request a waiver from this requirement. Your waiver request must be in writing and state the basis for the request and explain why electronic submission is not possible. The waiver request should also include an e-mail and/or name and mailing address where responses can be directed. Applicants must submit waiver requests to the General Deputy Assistant Secretary for Public and Indian Housing, Attn: Paula O. Blunt, General Deputy Assistant Secretary for the Office of Public and Indian Housing, Department of Housing and Urban Development, 451 Seventh Street, SW., Room 4100, Washington, DC 20410, with a facsimile copy to the Housing Voucher Management and Operations Division at (202) 401-7974. Waiver requests will be accepted beginning on the date of publication of this NOFA and no later than 30 days prior to the application submission date. HUD will not consider a waiver request that does not conform to the above requirement. If a waiver to the electronic application submission requirements is granted, HUD requires one original and two copies of a paper application to be sent to the Department of Housing and Urban Development, Central Processing Unit, Room 7152, 451 Seventh Street, SW., Washington, DC 20410, Attn: Mainstream Program (Mainstream). A copy of the application is not required to be submitted to the local HUD field office. For ease of reference, the term “local HUD field office” will be used in this announcement to mean the local HUD field office Hub or the local HUD field office program center. A listing of HUD field offices is attached to the General Section of the SuperNOFA.

V. Application Review Information

A. Criteria

1. Rating and Ranking. After the Grants Management Center has screened and disapproved any applications found unacceptable for further processing, it will review all acceptable applications to ensure they are technically adequate and responsive to the requirements of this announcement. HUD Headquarters will fund all applications from PHAs and nonprofit organizations that are recommended for funding by the Grants Management Center unless HUD receives approvable applications for more funds than are available. HUD will select applicants to be funded based upon the methodology indicated in section V. B. 1. of this NOFA. Applications meeting all the application submission requirements of section IV. B. of this NOFA will be rated and ranked on the basis of their score under the selection criteria in section V. A. of this NOFA. The maximum score under the selection criteria is 100 points.

2. Selection Criteria. a. Selection Criterion 1, Disabled Persons at or Below the Poverty Level (40 points).

(1) Description: This criterion assesses the number of disabled persons at or below the poverty level in the primary market area served by the applicant, as a percentage of such disabled persons on a national basis using 2000 census data. The primary market area is defined as the geographic area in which the applicant is legally authorized to operate and where the vouchers will be issued. (See section IV. B. 1. i. of this NOFA regarding the description of the primary market area required to be included in each PHA's/nonprofit organization's application.) A table listing all the cities and counties with a population of 10,000 or more persons within the nation states and territories) will be listed with this funding announcement on HUD's Web site at: www.grants.gov/Apply. Also indicated on the table will be the number of disabled persons/percentage of such disabled persons at or below the poverty level within each city or county, as a percentage of the number of disabled persons at or below the poverty level within the nation. An applicant (and the GMC during the review of applications) will use the table to determine the percentage of disabled persons at or below the poverty level that is in the applicant's primary market area. The percentage will determine the number of points that the applicant is eligible for under Selection Criterion 1.

(2) Rating and Assessment: Points will be assigned based on the number of disabled persons at or below the poverty level in the applicant's primary market area, as a percentage of such persons within the nation. For each tenth of one percent (.001) within the applicant's primary market area, the applicant will receive 5 points. Percentages of .0015, .0025, etc. or higher but less than the next whole tenth of one percent, i.e., .002, .003, etc. shall be rounded to the next whole tenth of a percentage point. An applicant having a primary market area with less than one-tenth of one percent for disabled persons, or a population of 10,000 or fewer, or for which disability percentages are not listed on the table, will receive 5 points under Selection Criterion 1. Likewise, an applicant having a primary market area comprised of more than one community with a population of 10,000 or fewer shall receive a total of 5 points for all such communities combined. In addition, an applicant with a primary market area comprised of one or more cities and/or counties, for which the total combined percentage is equal to or less than .00149, shall receive 5 points. A maximum of 40 points is available under Selection Criterion 1 regardless of how high a percentage of disabled persons at or below the poverty level is located within the applicant's primary market area.

b. Selection Criterion 2, Percentage of Allocated Budget Authority Expended (PABAE) (20 points).

(1) Description: This criterion focuses on PABAE; i.e., the percentage of allocated budget authority (ABA) that a PHA or nonprofit organization has expended for its housing choice voucher program. While a PHA or nonprofit organization must have an expenditure rate of at least 97 percent under section III. C. 1. c. of this NOFA in order to have an acceptable application, Selection Criterion 2 provides for the award of selection points to those PHAs and nonprofit organizations having a PABAE of 99 percent or higher. The PABAE for a PHA's or nonprofit organization's voucher program will be calculated by HUD Headquarters' Housing Voucher Financial Management Division based upon the ABA expenditure information submitted electronically to HUD's voucher management system (VMS) on a quarterly basis for the most recent 12-month period (prior to the Mainstream application due date). The PABAE will be determined by HUD dividing the amount of housing assistance payments (HAP) by the ABA. If data in the VMS is not available or cannot be relied upon, HUD will use other sources of available information such as the HUD Central Accounting System (HUDCAPS), up to December 31, 2004, or financial statement information submitted to the Real Estate Assessment Center through the Financial Assessment Sub-System. (Note: A PABAE of a half or more of one percentage point will be rounded to the next highest percentage point for purposes of qualifying for the points available under Selection Criterion 2 (for example, 98.5 percent will be rounded up to 99 percent).

See section IV. B. 1. g. of this NOFA regarding the certification requirement applicable to Block Grant MTW PHAs in connection with qualifying for the points available under Selection Criterion 2.

(2) Rating and Assessment: The GMC will assign point values as follows:

* 20 points: The PHA or nonprofit organization has a PABAE of 99 percent for its voucher program.

c. Selection Criterion 3, Homeownership Option Under Housing Choice Voucher Program (10 points). (Note: Selection Criterion 3 addresses HUD's homeownership policy priority.)

(1) Description: Applicants are encouraged, consistent with 24 CFR 982.625-982.643, to establish a homeownership component or to expand upon an existing component within their housing choice voucher program. Points will be awarded under this NOFA to applicants that are able to meet the rating and assessment criteria listed below.

(2) Rating and Assessment: The GMC will assign points under Selection Criterion 3 as follows:

* 3 points: The applicant has established a housing choice voucher homeownership program as evidenced by its submission with its application of a copy of the Board resolution approving changes to its administrative plan for the implementation of the homeownership option under its housing choice voucher program.

* 7 points: The applicant qualifies for the three points under the paragraph immediately above and has had one or more closings under its homeownership program, as evidenced by the applicant's submission of information to HUD's Public and Indian Housing Information Center (PIC) on Form HUD-50058, Family Report, indicating at least one homeownership unit has completed the closing process; i.e., has qualified the PHA for the $1,000 administrative fee associated with each homeownership voucher closing, as described in Notice PIH 2005-14 (HA) and the predecessor to this Notice issued “To All Section 8 Housing Authorities” on October 27, 2004. (Note: The applicant can only qualify for the seven points under this paragraph if it has first qualified for the three points under the paragraph immediately above.)

d. Selection Criterion 4, Family Self-Sufficiency (FSS) Slots Filled (10 points).

(1) Description: PHAs are encouraged, consistent with 24 CFR Part 984, to fill the slots required under a mandatory FSS program, and to establish a voluntary FSS program and fill slots under that program where a mandatory FSS program is not required. Points will be awarded under this NOFA to PHAs submitting a certification with their application certifying that they have filled one or more of their slots with persons with disabilities, and that these slots have been reported to HUD's PIC on the Form HUD-50058. (Note: Nonprofit organizations may also qualify for points under this selection criterion, but the basis upon which they may do so is different than for PHAs, as indicated below.)

(2) Rating and Assessment for PHAs: The GMC will assign rating points under Selection Criterion 4 as follows:

* 10 points: 20 or more of the applicant's FSS slots have been filled by persons with disabilities.

* 5 points: 10 to 19 of the applicant's FSS slots have been filled by persons with disabilities.

* 3 points: 1 to 9 of the applicant's FSS slots have been filled by persons with disabilities.

* 0 points: None of the applicant's FSS slots have been filled by persons with disabilities.

(3) Rating and Assessment for Nonprofit Organizations: In order to receive any points under this criterion, a nonprofit must submit a certification statement indicating that it currently assists persons with disabilities either directly, or indirectly through referrals to other agencies, with such needs as child care, transportation, educational and job training opportunities, employment, money management, and such other similar needs as are necessary to assist these families in achieving economic independence and self-sufficiency. The GMC will assign rating points under Selection Criterion 4 when the application is accompanied by the certification statement indicated immediately above and also accompanied by one of the certifications indicated below, as follows:

* 10 points: A certification is submitted with the application certifying that the nonprofit organization will assist 80 percent or more of its Mainstream voucher families either directly, or indirectly through referrals to other agencies, with such needs as child care, transportation, educational and job training opportunities, employment, money management, and such other similar needs as are necessary to assist these families in achieving economic independence and self-sufficiency.

* 5 points: A certification is submitted with the application certifying that the nonprofit organization will assist 50 to 79 percent of its Mainstream voucher families either directly, or indirectly through referrals to other agencies, with such needs as child care, transportation, educational and job training opportunities, employment, money management, and such other similar needs as are necessary to assist these families in achieving economic independence and self-sufficiency.

* 3 points: A certification is submitted with the application certifying that the nonprofit organization will assist 25 to 49 percent of its Mainstream voucher families either directly, or indirectly through referrals to other agencies, with such needs as child care, transportation, educational and job training opportunities, employment, money management, and such other similar needs as are necessary to assist these families in achieving economic independence and self-sufficiency.

* 0 points: The nonprofit organization does not submit any of the certification statements indicated immediately above.

e. Selection Criterion 5, Commitments from Outside Agencies (15 points).

(Note: Selection Criterion 5's category for 15 points addresses HUD's grassroots faith-based and other community-based organizations policy priority.)

(1) Description: The applicant provides documentation that it has entered into agreements with one or more organizations to assist disabled families with moving costs, security deposits, utility hook-up fees, utility deposits, medical care, transportation, educational opportunities, employment, and child care.

(2) Rating and Assessment: The GMC will assign points as follows:

* 15 points: The applicant provides copies of the agreements that it has entered into with three or more organizations to assist disabled families with any one or more of the following: moving costs, security deposits, utility hook-up fees, utility deposits, medical care, transportation, educational opportunities, employment, and child care. The applicant must also provide information indicating it has undertaken one or more of the activities to promote the participation of grass roots faith-based and other community-based organizations indicated in section V. b. 1. f. of the General Section of the SuperNOFA, as relates to the aforementioned agreements. The applicant's provision of the former, but not the latter information, shall result in the application receiving no more than 9 points under this Selection Criterion 5, as indicated below.

* 9 points: The applicant provides copies of the agreements that it has entered into with three or more organizations to assist disabled families with any one or more of the following: moving costs, security deposits, utility hook-up fees, utility deposits, medical care, transportation, educational opportunities, employment, and child care.

* 6 points: The applicant provides copies of the agreements it has entered into with two organizations to assist disabled families with any one or more of the following: moving costs, security deposits, utility hook-up fees, utility deposits, medical care, transportation, educational opportunities, employment, and child care.

* 3 points: The applicant provides copies of the agreements it has entered into with one organization to assist disabled families with any one or more of the following: moving costs, security deposits, utility hook-up fees, utility deposits, medical care, transportation, educational opportunities, employment, and child care.

f. Selection Criterion 6, Achieving Results and Program Evaluation (5 points). (Note: Selection Criterion 6 addresses HUD's Achieving Results and Program Evaluation policy priority. This rating criterion is mandatory; i.e., applicants must provide information in their application responding to this rating criterion.)

(1) Description: This criterion emphasizes HUD's determination to ensure that applicants meet commitments made in their applications and assess their performance in meeting performance goals. HUD requires Mainstream Program applicants to develop an effective, quantifiable, outcome-oriented monitoring and evaluation plan for measuring performance and determining that goals have been met. This monitoring and evaluation plan requirement is applicable to Selection Criterion 3 (Homeownership Option Under Housing Choice Voucher Program), Selection Criterion 4 (FSS Slots Filled), and Selection Criterion 5 (Commitments from Outside Agencies). The plan is to be set forth on the Form HUD-96010, Logic Model, and shall address solely those selection criteria (3, 4, and 5) under which the applicant sought to be rated in its application. The Form HUD-96010 must be submitted with the applicant's application. See section VI. C., Reporting, of this NOFA regarding the reporting requirements pertaining to the goals identified by the applicant on the Form HUD-96010.

(2) Rating and Assessment: The GMC will assign points as follows:

* 5 points: The applicant submits a monitoring and evaluation plan meeting the descriptive requirements outlined immediately above.

B. Reviews and Selection Process

1. Selection for Funding. HUD will select applications for funding that meet all of the application submission requirements in section IV. B. of this NOFA and that score a sufficient number of points under the selection criteria listed in section V. A. of this NOFA. Applications will be ranked from highest to lowest score in descending order, with the highest ranked application selected first for funding, and so forth. Where two or more applicants have exactly the same score under the selection criteria in section V. A. of this NOFA and insufficient funding remains to fund all of them, applicants will be funded in the order of the exact percentage of disabled persons at or below the poverty level that is in each applicant's primary market area. The applicant with the highest percentage will be funded first, etc. HUD will limit the number of applications selected for funding from any state to 10 percent of the budget authority available for the Mainstream Program. If establishing this geographic limit would result, however, in unreserved budget authority, HUD may modify this limit to assure that all available funds are used. When remaining budget authority is insufficient to fund the last selected application in full, the application will be funded to the extent of the funding available, unless the applicant indicates that it will only accept a higher number of units. In that event, the next selected application shall be the one indicating a willingness to accept the lesser amount of funding for the units available.

2. Deficient Applications. The application must include all of the information specified in section IV. B. 1., Content of Application, of this announcement. Examples of curable (correctible) technical deficiencies include inconsistencies in the funding request, a failure to submit the proper certifications, or, in the instance where a waiver to the submission of an electronic application has been granted, failure to submit an application that contains an original signature by an authorized official. In each case, HUD will notify you in writing by describing the clarification or technical deficiency. Applicants will be notified by facsimile or by United States Postal Service (USPS), return receipt requested. Clarifications or corrections to technical deficiencies in accordance with the information provided by HUD must be submitted within 7 calendar days of the date of receipt of the HUD notification—not 14 days as is indicated in the General Section of the SuperNOFA. If the due date falls on a Saturday, Sunday, or Federal holiday, your correction must be received by HUD on the next day that is not a Saturday, Sunday, or Federal holiday. If the deficiency is not corrected within this time period, HUD will reject your application as incomplete and it will not be considered for funding.

3. Unacceptable Applications; Applicant Debriefing. After the 7 calendar day technical deficiency correction period, the Office of Public and Indian Housing's Grants Management Center will disapprove all applications from PHAs and nonprofit organizations that the GMC determines are not acceptable for processing. The GMC's notification of rejection letter must state the basis for the decision. Applicants may request an applicant debriefing related to its application. Beginning 30 days after the awards for assistance are publicly announced in the Federal Register, and for at least 120 days thereafter, HUD will, upon receiving a written or email request from the applicant, provide a debriefing to the requesting applicant. (See the General Section of the SuperNOFA for additional information regarding a debriefing.) Applicants requesting to be debriefed must send a written request to Iredia Hutchinson, Director, Grants Management Center, Department of Housing and Urban Development, 501 School Street, SW, Suite 800, Washington, DC 20024. An e-mail request may also be sent to Ms. Hutchinson at the following e-mail address: Iredia_Hutchinson@hud.gov. Information provided during a debriefing will include, at a minimum, the final score you received for each rating factor, final evaluation comments for each rating factor, and the final assessment indicating the basis upon which assistance was provided or denied.

C. Anticipated Announcement and Award Dates

The announcement of Mainstream awards is anticipated to occur during the month of February 2006.

VI. Award Administration Information

A. Award Notices

Successful applicants will receive a letter from HUD Headquarters' Office of Public and Indian Housing (OPIH) advising of their having been selected to receive an award of Mainstream vouchers. Shortly thereafter, the awardee will receive award documents from OPIH's Financial Management Center (FMC) providing the awardee with notification of its Mainstream voucher award, contract documents, and a funding exhibit.

B. Administrative and National Policy Requirements

1. Housing Choice Voucher Program Regulations. Applicants must administer the Mainstream Program in accordance with HUD regulations and requirements governing the Housing Choice Voucher Program. The only exception to this requirement shall be for nonprofit organizations which shall not be required to comply with the requirements of 24 CFR Part 903, subpart B concerning the requirement for a PHA Plan.

2. Housing Choice Voucher Program Admission Requirements. Housing choice voucher assistance must be provided to eligible disabled families in conformity with regulations and requirements governing the Housing Choice Voucher Program and the PHA's administrative plan.

3. Turnover. When a voucher under this announcement becomes available for reissue (e.g., the family initially selected for the program drops out of the program or is unsuccessful in the search for a unit), the voucher may be used only for another family eligible for assistance under this announcement for five years from the date the rental assistance is placed under an annual contributions contract (ACC). In addition, any renewal by HUD of the five-year voucher funding shall require the continued reissuance of the vouchers to disabled families.

If there is ever an insufficient pool of disabled families on the PHA's or nonprofit organization's housing choice voucher waiting list, the PHA or nonprofit organization shall conduct outreach to encourage eligible persons to apply for this special allocation of vouchers. Outreach may include contacting independent living centers, advocacy organizations for persons with disabilities, and medical, mental health, and social service providers for referrals of persons receiving such services who would benefit from housing choice voucher assistance. If the PHA's or nonprofit organization's housing choice voucher waiting list is closed, and if the PHA or nonprofit organization has insufficient applicants on its housing choice voucher waiting list to use all awarded vouchers under this announcement, the PHA or nonprofit disability organization should open the waiting list for applications from disabled families. PHAs and nonprofit organizations must take care to keep track of the number of disabled vouchers they have been awarded under this funding announcement versus the number of such vouchers they have actually issued to disabled families.

4. PHA and Nonprofit Organization Responsibilities. In addition to the responsibilities under the Housing Choice Voucher Program and HUD regulations concerning nondiscrimination based on disability (24 CFR 8.28) and to affirmatively further fair housing, PHAs and nonprofit organizations that receive voucher funding shall:

a. Where requested by an individual, assist program participants to gain access to supportive services available within the community, but not require eligible applicants or participants to accept supportive services as a condition of participation or continued occupancy in the program.

b. Identify public and private funding sources to assist participants in covering the costs of modifications that need to be made to their units as a reasonable accommodation for their disabilities.

c. Not deny other housing opportunities to persons who qualify for rental assistance under this program, or otherwise restrict access to PHA or nonprofit organization programs to eligible applicants who choose not to participate.

d. Provide housing choice voucher search assistance.

e. In accordance with regulatory guidance, provide higher rents to owners necessary for the provision of accessible units and structural modifications for persons with disabilities.

f. Provide technical assistance to owners for making reasonable accommodations or making units accessible to persons with disabilities.

5. Conducting Business in Accordance With Core Values and Ethical Standards. To reflect core values, all PHAs shall develop and maintain a written code of conduct in the PHA administrative plan that (1) requires compliance with the conflict of interest requirements of the Housing Choice Voucher Program at 24 CFR 982.161, and (2) prohibits the solicitation or acceptance of gifts or gratuities, in excess of a nominal value, by any officer or employee of the PHA, or any contractor, subcontractor, or agent of the PHA. The PHA's administrative plan shall state PHA policies concerning PHA administrative and disciplinary remedies for violation of the PHA code of conduct. The PHA shall inform all officers, employees, and agents of its organization of the PHA's code of conduct.

6. Environmental Review. In accordance with 24 CFR 50.19(b)(11) and 58.35(b)(1) of the HUD regulations, tenant-based rental activities under this program are categorically excluded from the requirements of the National Environmental Policy Act of 1969 (NEPA) and are not subject to environmental review under the related laws and authorities. Activities under the homeownership option of this program are categorically excluded from NEPA requirements and excluded from other environmental requirements under 24 CFR 58.5 in accordance with 24 CFR 58.35(b)(5), but PHAs and nonprofit organizations are responsible for the environmental requirements in 24 CFR 982.626(c).

7. Procurement of Recovered Materials. See section III. C. 4. i. of the General Section of the SuperNOFA.

C. Reporting

Reporting requirements are the same as for regular vouchers under the Housing Choice Voucher Program. Awardee performance on goals included on the Form HUD-96010, Logic Model, shall be monitored by HUD utilizing the current HUD reporting systems for the Housing Choice Voucher Program for tracking PHA progress on homeownership, the FSS program, and commitments from outside agencies. Applicants should internally track their performance in meeting the strategic goals in the Logic Model using the information required by the format of that form.

In addition, HUD requires that funded recipients collect racial and ethnic beneficiary data. It has adopted the Office of Management and Budget's (OMB's) Standards for the Collection of Racial and Ethnic Data. In view of these requirements, funded recipients should use Form HUD-27061, Racial and Ethnic Data Reporting Form (found on www.grants.gov/Apply), a comparable program form, or a comparable electronic data system for this purpose.

VII. Agency Contacts

A. Technical Assistance

Before the application due date, HUD staff is available to provide general guidance and technical assistance about this NOFA. However, staff is not permitted to assist in preparing your application. Also, following selection of applicants, but before awards are announced, staff may assist in clarifying or confirming information that is a prerequisite to the offer of an award. You may contact George C. Hendrickson, Housing Program Specialist, Room 4214, Office of Public Housing and Voucher Programs, Department of Housing and Urban Development, 451 Seventh Street, SW, Washington, DC 20410; telephone (202) 708-0477, ext. 4064. Subsequent to application submission, you may contact the Grants Management Center at (202) 358-0221. (These are not toll-free numbers.) Persons with hearing or speech impairments may access these numbers via TTY (text telephone) by calling the Federal Information Relay Service at 1-800-877-8339 (this is a toll-free number). For technical support for registering to apply using www.grants.gov, downloading an application, or electronically submitting an application, please call Grants.gov Customer Support at 800-518-GRANTS (This is a toll-free number) or e-mail support@grants.gov.

B. Satellite Broadcast

HUD will not have a satellite broadcast on the Mainstream Program. Applicants seeking additional information or clarifications regarding the content of the Mainstream NOFA should contact George C. Hendrickson in HUD Headquarters (see paragraph A. immediately above).

VIII. Other Information

A. Please review Section VIII. A., B., E., F., G., and H. (“Other Information”) of the General Section of the SuperNOFA (70 FR 13575), published March 21, 2005. Please note that these subsections are incorporated into this NOFA by reference.

B. Environmental Impact

This NOFA provides funding under, and does not alter the environmental requirements of 24 CFR Part 982, as noted in section VI. B. 6. of this NOFA, and this NOFA concerns activities listed in 24 CFR 50.19(b) as categorically excluded from environmental review under the National Environmental Policy Act of 1969 (42 U.S.C. 4321) (“NEPA”). Accordingly, under 24 CFR 50.19 (c) (5), this NOFA is categorically excluded from environmental review under NEPA.

C. Paperwork Reduction Act

The information collection requirements contained in this document have been approved by the Office of Management and Budget (OMB) under the Paperwork Reduction Act of 1995 (44 U.S.C. 3501-3520) and assigned OMB control number 2577-0169. In accordance with the Paperwork Reduction Act, HUD may not conduct or sponsor, and a person is not required to respond to, a collection of information unless the collection displays a currently valid OMB control number. Public reporting burden for the collection of information is estimated to average one hour per annum per respondent for the application and grant administration.

This includes the time for collecting, reviewing, and reporting the data for the application, semi-annual reports and final report. The information will be used for grantee selection and monitoring the administration of funds. Response to this request for information is required in order to receive the benefits to be derived.

Dated: October 25, 2005.
Paula O. Blunt,
General Deputy Assistant, Secretary for Public and Indian Housing.

BILLING CODE 4210-33-P

[FR Doc. 05-21894 Filed 11-1-05; 8:45 am]

BILLING CODE 4210-33-C